DEPARTMENT OF ENERGY

U.S. Energy Information Administration

Agency Information Collection Extension

AGENCY: U.S. Energy Information Administration (EIA), Department of Energy (DOE).

ACTION: Agency information collection activities: information collection extension with change; comment request.

SUMMARY: This notice replaces the notice published April 11, 2012 at 77 FR 21756 regarding the extension of the collection of information for the Petroleum Supply Reporting System. The EIA, pursuant to the Paperwork Reduction Act of 1995, intends to extend for three years with the Office of Management and Budget (OMB) the Petroleum Supply Reporting System. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments must be filed by August 10, 2012. If you anticipate difficulty in submitting comments within that period, contact the person listed below as soon as possible.

ADDRESSES: Send comments to Ms. Sylvia Norris at U.S. Energy Information Administration, Office of Petroleum and Biofuels Statistics, U.S. Department of Energy, 1000 Independence Ave., SW., EI-25, Washington, DC 20585. To ensure receipt of the comments by the due date, submission by email (Sylvia.Norris@eia.gov) is recommended. Alternatively, Ms. Norris may be contacted by telephone at 202-586-6106.

FOR FURTHER INFORMATION CONTACT: Requests for additional information or copies of any forms and instructions should be directed to Ms. Sylvia Norris at the contact information listed above. The proposed forms and instructions are available on the Internet at: http://www.eia.gov/survey/#petroleum

SUPPLEMENTARY INFORMATION:

This information collection request contains:

(1) OMB No.: 1905-0165;

(2) Information Collection Request Title: Petroleum Supply Reporting System. The survey forms included in this system are:

Form EIA-800 “Weekly Refinery Report”

Form EIA-802 “Weekly Product Pipeline Report”

Form EIA-803 “Weekly Crude Oil Report”

Form EIA-804 “Weekly Import Report”

Form EIA-805 “Weekly Bulk Terminal and Blender Report”

Form EIA-809 “Weekly Oxygenate Report”

Form EIA-22M “Monthly Biodiesel Production Survey”

Form EIA-810 “Monthly Refinery Report”

Form EIA-812 “Monthly Product Pipeline Report”

Form EIA-813 “Monthly Crude Oil Report”

Form EIA-814 “Monthly Import Report”

Form EIA-815 “Monthly Bulk Terminal and Blender Report”

Form EIA-816 “Monthly Natural Gas Plant Liquids Report”

Form EIA-817 “Monthly Tanker and Barge Movements Report”

Form EIA-819 “Monthly Oxygenate Report”

Form EIA-820 “Annual Refinery Report”;

(3) Type of Request: Three-year extension with changes;

(4) Purpose:

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

Weekly petroleum and biofuels supply surveys (Forms EIA-800, 802, 803, 804, 805, and 809) are used to gather data on petroleum refinery operations, blending, biofuels production, inventory levels, and imports of crude oil, petroleum products, and biofuels from a sample of operating companies. Data from weekly surveys appear in EIA reports including the Weekly Petroleum Status Report, http://www.eia.gov/oil_gas/petroleum/data_publications/weekly_petroleum_status_report/wpsr.html Short-Term Energy Outlook, http://www.eia.gov/forecasts/steo/; This Week in Petroleum, http://www.eia.gov/forecasts/steo/; Monthly Energy Review, http://www.eia.gov/totalenergy/data/monthly/, and others.

Monthly petroleum and biofuels supply surveys (Forms EIA-810, 812, 813, 814, 815, 816, 817, 819, and 22M) are used to gather data on petroleum refinery operations, blending, biofuels production, natural gas plant liquids production, inventory levels, imports, inter-regional movements, and storage capacity for crude oil, petroleum products, and biofuels. Crude oil production data and petroleum and biofuels export data from the U.S. Census Bureau are integrated with data from EIA petroleum supply surveys to create a comprehensive statistical view of U.S. petroleum supplies that is unavailable from any other source.

Monthly petroleum and biofuels supply surveys support weekly surveys by providing a complete set of in-scope petroleum and biofuels supply data from which weekly survey samples are drawn. In addition, monthly surveys provide data elements that are not collected on weekly reports such as production of natural gas plant liquids and refinery processing gain. Data from monthly petroleum and biofuels supply surveys appear in EIA reports including Petroleum Supply Monthly, http://www.eia.gov/petroleum/supply/monthly/ Petroleum Supply Annual, http://www.eia.gov/petroleum/supply/annual/volume1/; Monthly Energy Review, http://www.eia.gov/petroleum/supply/annual/volume1/ Annual Energy Review, http://www.eia.gov/totalenergy/data/annual/ Short-Term Energy Outlook, http://www.eia.gov/forecasts/steo/; Annual Energy Outlook, http://www.eia.gov/forecasts/aeo/er/, and others. Monthly survey data provide input for reports in the EIA State Energy Data System, and provide U.S. data submitted to the International Energy Agency.

Further, Section 1508 of the Energy Policy Act of 2005 (EPACT 2005) (42 U.S.C. 7135(m)) requires the EIA to conduct a survey which collects the quantity of renewable fuels produced, blended, imported, and demanded on a monthly basis, as well as market price data on a monthly basis. The EIA-22M collects these data in order to fulfill this mandate.

Form EIA-820 “Annual Refinery Report” provides plant-level data on refinery capacities as well as national and regional data on fuels consumed by refineries, natural gas consumed as hydrogen feedstock, and crude oil receipts by method of transportation for operating and idle petroleum refineries (including new refineries under construction), and refineries shutdown during the previous year. The information collected appears in the Refinery Capacity Report, http://www.eia.gov/petroleum/refinerycapacity/ Annual Energy Review, http://www.eia.gov/totalenergy/data/annual/, and other reports available electronically from the EIA web site at http://www.eia.gov.

(4a) Proposed Changes to Information Collection:

The EIA proposes to discontinue Form EIA-801 “Weekly Bulk Terminal Report” and collect that same information by adding data elements to Form EIA-805 “Weekly Bulk Terminal and Blender Report” so that Form EIA-805 will be used to collect bulk terminal inventory data that were collected on Form EIA-801 as well as gasoline and other blending operations data. The Form EIA-805 would collect stocks of products which can be viewed below and on the draft form (see FOR FURTHER INFORMATION CONTACT section for instructions about how to obtain proposed survey material). Reporting on Form EIA-805 will continue to be by each terminal site. The following are proposed modifications to Form EIA-805.

• Add stocks of total natural gas plant liquids (NGPL) and liquefied refinery gases (LRG).

• Add stocks of propane and propylene (a subset of total NGPL and LRG).

• Add stocks of nonfuel propylene (a subset of propane/propylene stocks).

• Add stocks of residual fuel oil.

• Add stocks of unfinished oils.

• Add stocks of products currently listed on Form EIA-805 including

—Fuel Ethanol

—Finished Motor Gasoline, Reformulated, blended with Fuel Ethanol

—Finished Motor Gasoline, Reformulated, Other

—Finished Motor Gasoline, Conventional, blended with Fuel Ethanol, Ed55 and lower

—Finished Motor Gasoline, Conventional, blended with Fuel Ethanol, Greater than Ed55

—Finished Motor Gasoline, Conventional, Other

—Motor Gasoline Blending Components, Reformulated Blendstock for Oxygenate Blending (RBOB)

—Motor Gasoline Blending Components, Conventional Blendstock for Oxygenate Blending (CBOB)

—Motor Gasoline Blending Components, Gasoline Treated as Blendstock (GTAB)

—Motor Gasoline Blending Components, All Other

—Kerosene-Type Jet Fuel

—Distillate Fuel Oil by Sulfur Category (15 ppm sulfur and under, Greater than 15 ppm to 500 ppm sulfur (inclusive), and Greater than 500 ppm sulfur)

Eliminating Form EIA-801 and the proposed changes to Form EIA-805 will make weekly bulk terminal reporting consistent with current survey reporting on monthly surveys and will provide more useful and accurate data for weekly analysis and assessment of U.S. inventories and blending of petroleum products and biofuels.

EIA originally proposed to discontinue using Form EIA-801 for weekly bulk terminal reporting and consolidate all petroleum terminal reporting on Form EIA-805 as part of our 2009 survey form changes. The 2009 proposal was later withdrawn because of concern about increased reporting burden due to the large number of weekly responses that were expected to be needed by Form EIA-805 in order to achieve the necessary sample coverage (the estimate was for an increase from 445 to 968 weekly responses), as well as a concern about the feasibility of processing all of the responses in a timely manner. EIA has implemented an electronic data collection method called the Excel Data Extraction System (EDES) that allows us to process a larger volume of reports. Further assessment of the sample requirement, including examination of changes in the terminal industry, resulted in reduction in the estimate of the required responses to 750 per week, an increase of 215 weekly responses from the current 535 weekly responses for collecting blending data on Form EIA-805. When balanced against a reduction of 187 weekly responses from eliminating Form EIA-801, this results in an estimated net increase of only 28 weekly responses. We believe there are sufficient benefits in terms of data utility and quality to be derived from consolidation of weekly bulk terminal reporting to justify this relatively minor increase in the number of weekly responses.

EIA proposes to change the data protection policy regarding monthly atmospheric crude oil distillation capacity reported on Form EIA-810 “Monthly Refinery Report.” EIA proposes to no longer protect monthly atmospheric crude oil distillation reported on Form EIA-810. EIA proposes to release these data as public information in identifiable form. Atmospheric crude oil distillation capacity data collected on Form EIA-820 “Annual Refinery Report,” are released each year in identifiable form, by company and refinery site. These data appear in the Refinery Capacity Report available at http://www.eia.gov/petroleum/refinerycapacity/from the EIA web site. Protecting the atmospheric crude oil distillation capacity data that is collected monthly on Form EIA-810 is inconsistent with the public release of this same information that is reported annually on Form EIA-820. EIA is only proposing to no longer protect the identifiability of atmospheric crude oil distillation capacity reported on Form EIA-810. All other information reported on Form EIA-810 will continue to be protected to the extent that it satisfies the criteria for exemption under the Freedom of Information Act (FOIA), 5 U.S.C. 552, the Department of Energy (DOE) regulations, 10 CFR 1004.11 implementing the FOIA, and the Trade Secrets Act, 18 U.S.C. 1905.

This change is proposed so that EIA may release reports and other analytical information products that contain statements related to atmospheric crude oil distillation capacity at specific refineries based on more current monthly data rather than relying solely upon annual data. Under the current disclosure limitation policy, we are only able to make refinery-specific statements about capacity based on data from Form EIA-820, but interest is often in more current data. The public release of monthly crude oil distillation capacity information reported on Form EIA-810 will assist State and local governments and other energy planners that use these data for energy emergency planning. EIA contends that the release of atmospheric crude oil distillation capacity reported on Form EIA-810 will not cause competitive harm because similar data are already publicly released by EIA in the Annual Refinery Capacity Report and refinery-specific capacity data are widely quoted in press reports.

EIA proposes to discontinue collection of maximum sustainable fuel ethanol production capacity and change the data protection policy on Form EIA-819. Beginning with data collected for January 2013, EIA proposes to treat all information reported on fuel ethanol nameplate production capacity on Form EIA-819 as public information and release it on EIA's Web site. EIA will change the instructions on Form EIA-819 to state that this information will be treated as public. The publicly available ethanol production capacity information would be identifiable by company and facility. The data protection policy for all other information reported on Form EIA-819 will remain the same and be protected to the extent that the information qualifies as confidential commercial information under the criteria for exemption in the Freedom of Information Act (FOIA), 5 U.S.C. 552; the Department of Energy (DOE) regulations, 10 CFR part 1004, which implement the FOIA; and the Trade Secrets Act, 18 U.S.C. 1905. The proposed policy change is based on EIA's mandate for carrying out a central, comprehensive, and unified energy data and information program responsive to users' needs for credible, reliable, and timely energy information that will improve and broaden understanding of energy in the United States.

EIA releases on its Web site, on an annual basis, the atmospheric crude oil distillation capacity and downstream charge capacity, by state, for each oil refinery in the Refinery Capacity Report. One important use of ethanol is for blending with gasoline. The publication of fuel ethanol plant production capacities by facility will provide comparable upstream information similar to refineries and will be useful to assess upstream gasoline market supply conditions. By providing capacity information at the facility level for ethanol production and other refined petroleum products, supply conditions within a region or state may be assessed in the event of a supply disruption.

Fuel ethanol production capacities were previously collected by EIA on Form EIA-819A “Annual Oxygenate Capacity Report” from January 1, 1993-1995 and released by company and facility in the Petroleum Supply Annual during that same time period. Form EIA-819A was discontinued in 1996. The proposal to release fuel ethanol plant production capacity collected on Form EIA-819 beginning with data for January 2013, reference period is consistent with past EIA practices and will improve the utility of the data by permitting comparisons on the growth in capacity at the state level over the past twenty years.

EIA does not anticipate the release of fuel ethanol plant nameplate production capacity data to cause competitive harm to respondents to Form EIA-819 because this type of information is currently publicly available from other exogenous sources through the Internet. The Renewable Fuels Association publishes nameplate ethanol production capacity as well as the actual operating production and under-construction capacity at the facility level available at http://www.ethanolrfa.org/bio-refinery-locations. EIA is proposing only to release nameplate production capacity information at the facility level and will continue to protect all other information reported on Form EIA-819 from being released in identifiable form.

EIA proposes to discontinue reporting of maximum sustainable fuel ethanol capacity. Maximum sustainable capacity was originally envisioned as a measure of surge capacity for fuel ethanol. However, the quantities reported for maximum sustainable fuel ethanol capacity were not useful for measuring surge capacity and EIA will be able to measure fuel ethanol surge capacity by using fuel ethanol production and nameplate capacity data reported on Form EIA-819.

Beginning with data collected for January 2013, EIA proposes to treat all information reported on biodiesel production capacity on Form EIA-22M as public information that may be released EIA's Web site. EIA will signify this change by amending the instructions on Form EIA-22M to state that this information will be treated as public and be made available in a form identifiable by company and facility. This change will provide for protection policies for biodiesel production capacity data that are consistent with current EIA policies related to oil refinery capacity and the data protection policy proposed for fuel ethanol production capacity. Because biodiesel is increasingly used as a blending component in U.S. distillate fuel oil (including diesel fuel and heating oil), detailed production capacity at the plant level is important for assessment of upstream distillate fuel oil supply conditions. Biodiesel production capacities by plant are currently publicly available from the National Biodiesel Board web site at http://www.nbb.org/about-us/member-plants/nbb-member-plant-lists. We do not anticipate competitive harm to biodiesel producers from release of biodiesel production capacity data collected on Form EIA-22M.

Finally, EIA proposes to further modify the data protection policy for monthly biodiesel production data reported on Form EIA-22M by not applying any disclosure limitation methodology to the published statistical aggregates for quantities of biodiesel production at the Petroleum Administration for Defense District (PADD) level. The existing data protection policy provides for application of disclosure limitation procedures to statistical data published from Form EIA-22M to minimize the risk of disclosure of company identifiable information in data aggregated to the national, regional, or state levels. Under the current program, aggregated production data may be withheld (i.e. aggregated data values are replaced by W) if the company data contributing to the aggregated data item is such that individual company data is effectively revealed. EIA proposes to discontinue application of disclosure limitation procedures to biodiesel production data, but these procedures would continue to be applied to other published statistical aggregates based on data collected on Form EIA-22M.

The change in data protection policy for production of biodiesel is necessary because EIA intends to incorporate biodiesel production in petroleum supply and disposition balance tables (with data for the U.S. and PADDs) published in the Petroleum Supply Monthly and Petroleum Supply Annual. Disclosure limitation procedures are not applied to data in the Petroleum Supply Monthly and Petroleum Supply Annual. Therefore, it is possible that U.S. and PADD level totals reported in the Petroleum Supply Monthly and Petroleum Supply Annual may be dominated by data from one or two large companies thereby making it possible for a knowledgeable person to estimate information reported by a particular company. It is important to note that EIA is not proposing to explicitly report biodiesel production in company identifiable form, but only to discontinue application of disclosure limitation procedures to U.S. and PADD level biodiesel production totals calculated from data reported on Form EIA-22M. Applying statistical disclosure limitation procedures to biodiesel production data would potentially prevent EIA from accurately reporting data on distillate fuel oil supply, disposition, and demand including biodiesel especially at the PADD level. Disclosure limitation procedures will continue to be applied to the other data reported on Form EIA-22M.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

(5) Estimated Number of Survey Respondents:

Weekly Survey Forms

EIA-800, 141 Respondents; EIA-802, 51 Respondents; EIA-803, 57 Respondents; EIA-804, 104 Respondents; EIA-805, 750 Respondents; EIA-809, 142 Respondents;

Monthly Survey Forms

EIA-22M, 150 Respondents; EIA-810, 153 Respondents; EIA-812, 80 Respondents;

EIA-813, 167 Respondents; EIA-814, 391 Respondents; EIA-815, 1,476 Respondents;

EIA-816, 451 Respondents; EIA-817, 34 Respondents; EIA-819, 203 Respondents;

Annual Survey Forms

EIA-820, 148 Respondents.

Total respondents for Petroleum Supply Reporting System: 4,498 respondents. Many respondents report on multiple surveys and are counted for each survey they report. For example, the 104 respondents on the weekly Form EIA-804 are also included as a subset of the 391 respondents reporting on the monthly Form EIA-814, so that the two surveys contribute a total of 495 respondents.

(6) Annual Estimated Number of Total Responses:

Weekly Survey Forms (Respondents x 52)

EIA-800, 7,332 Responses; EIA-802, 2,652 Responses; EIA-803, 2,964 Responses; EIA-804, 5,408 Responses; EIA-805, 39,000 Responses; EIA-809, 7,384 Responses;

Monthly Survey Forms (Respondents x 12)

EIA-22M, 1,800 Responses; EIA-810, 1,836 Responses; EIA-812, 960 Responses; EIA-813, 2,004 Responses; EIA-814, 4,692 Responses; EIA-815, 17,712 Responses; EIA-816, 5,412 Responses; EIA-817, 408 Responses; EIA-819, 2,436 Responses;

Annual Survey Forms (Respondents x 1)

EIA-820, 148 Responses.

Total annual responses for Petroleum Supply Reporting System: 102,148 responses annually. EIA estimates that it will receive a total of 102,148 reports annually, not that each survey form will individually be reported 102,148 times annually.

(7) Annual Estimated Number of Burden Hours:

EIA estimates the following burden hours per response for the Petroleum Supply Reporting System survey forms:

Weekly Survey Forms

EIA-800, 1.58 hours; EIA-802, 0.95 hours; EIA-803, 0.5 hours; EIA-804, 1.75 hours; EIA-805, 1.6 hours; EIA-809, 1 hour;

Monthly Survey Forms

EIA-22M, 3 hours; EIA-810, 6 hours; EIA-812, 4.3 hours; EIA-813, 2.5 hours; EIA-814, 2.55 hours; EIA-815, 5 hours; EIA-816, 0.95 hours; EIA-817, 2.25 hours; EIA-819, 1.75 hours;

Annual Survey Forms

EIA-820, 2.00 hours.

Based on these estimates and the estimates in (6), EIA estimates an annual total of 231,531 burden hours for the Petroleum Supply Reporting System.

(8) Annual Estimated Reporting and Recordkeeping Cost Burden: EIA estimates that there are no additional costs to respondents associated with the surveys other than the costs associated with the burden hours.

Statutory Authority: Section 13(b) of the Federal Energy Administration Act of 1974, P.L. 93-275, codified at 15 U.S.C. 772(b), and the DOE Organization Act of 1977, Public Law 95-91, codified at 42 U.S.C. 7101 et seq.

Issued in Washington, DC, on June 5, 2012.
Stephanie Brown,
Director, Office of Survey Development and Statistical Integration, U. S. Energy Information Administration.

[FR Doc. 2012-14116 Filed 6-8-12; 8:45 am]

BILLING CODE 6450-01-P